DEPARTMENT OF HEALTH AND HUMAN SERVICES

Centers for Disease Control and Prevention

[30DAY-21-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Evaluation of NIOSH Fire Fighter Alert (Structural Collapse)—New—The National Institute of Occupational Safety and Health (NIOSH). An Alert documents the scientific research about an occupational health and safety hazard and provides recommendations for assessing, avoiding, or reducing the hazard. The Alert is probably the National Institute for Occupational Safety and Health's (NIOSH) best tool for addressing risks of great immediate danger involving hazards to life and health. Even though the Alert can be termed an important tool, prior to 1999 no rigorous test of Alert efficacy had ever been conducted. During the past year, NIOSH began the first rigorous test of one NIOSH Alert on the dangers of structural collapse among fire fighters. This testing was done with a sample of fire fighters, and on the basis of this sample, a national distribution strategy for the Alert will follow.

This Alert contains recommendations with important safety and health implications for more than one million fire fighters in over 36,000 fire fighter units. Morbidity and mortality rates are relatively high for this occupation, which increases the need for effective communication strategies when reporting safety and health recommendations.

The formative research phase done this year by NIOSH's Health Communication Research Branch and Division for Safety Research will produce data with strong levels of internal and external validity. However, the formative phase is only aimed at designing effective messages and not aimed at understanding the impact of those messages in the final distribution of the Alert. NIOSH believes that it is reasonable to: (1) Conduct an evaluation of the national distribution of the Alert to determine its final impact and (2) identify the characteristics of those fire fighter units that may not have met optimal levels of communication effect (receiver awareness, comprehension, acceptance, and use).

The specific goals of this investigation are to: (1) Assess the communication effect of NIOSH recommendations contained within the Alert on structural collapse and (2) identify the characteristics (behavioral, normative, and control beliefs, and demographics) of receivers who fail to meet minimum levels of communication effect.

A standardized questionnaire developed and approved for the formative research phase will be used to assess communication effect. Items will identify the extent of receiver awareness, comprehension, acceptance, and use of the Alert. The Theory of Planned Behavior will be used to help identify the factors that mediate this communication effect, and relevant questions will be added to the existing questionnaire.

The data collected in this study will be used to assess the communication effect of the national distribution of the Alert by comparing the means between the respondents in the formative evaluation and the respondents in the national distribution. This data also will be used to identify the characteristics of those fire fighter units that may not have met optimal levels of communication effects. Total annual burden hours are 250.

Respondents | Number of respondents | Number of responses/respondent | Average burden response (in hours)
Fire Fighters | 1,000 | 1 | .25

Dated: April 20, 2000.
Charles W. Gollmar,
Acting Associate Director for Policy Planning and Evaluation, Centers for Disease Control and Prevention.

[FR Doc. 00-10350 Filed 4-25-00; 8:45 am]

BILLING CODE 4163-18-P